ENVIRONMENTAL PROTECTION AGENCY

[OW-2003-0073; FRL-7666-3]

Agency Information Collection Activities; Submission to OMB for Review and Approval; Comment Request; National Pollutant Discharge Elimination System (NPDES) Compliance Assessment/Certification Information (Renewal), EPA ICR Number 1427.07, OMB Control Number 2040-0110

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request to renew an existing approved collection. This ICR is scheduled to expire on 5/31/2004. Under OMB regulations, the Agency may continue to conduct or sponsor the collection of information while this submission is pending at OMB. This ICR describes the nature of the information collection and its estimated burden and cost.

DATES: Additional comments may be submitted on or before June 23, 2004.

ADDRESSES: Submit your comments, referencing docket ID number OW-2003-0073, to (1) EPA online using EDOCKET (our preferred method), by e-mail to OW-Docket@epa.gov, or by mail to: EPA Docket Center, Environmental Protection Agency, Water Docket, Mail Code 4101T, 1200 Pennsylvania Ave., NW., Washington, DC 20460, and (2) OMB at: Office of Information and Regulatory Affairs, Office of Management and Budget (OMB), Attention: Desk Officer for EPA, 725 17th Street, NW., Washington, DC 20503.

FOR FURTHER INFORMATION CONTACT: Jack Faulk, Environmental Protection Agency, Mail Code 4203M, 1200 Pennsylvania Ave., NW., Washington, DC 20460; telephone number: 202-564-0768; fax number: 202-564-6431; e-mail address: faulk.jack@epa.gov.

SUPPLEMENTARY INFORMATION: EPA has submitted the following ICR to OMB for review and approval according to the procedures prescribed in 5 CFR 1320.12. On December 9, 2003 (68 FR 68618), EPA sought comments on this ICR pursuant to 5 CFR 1320.8(d). EPA received no comments.

EPA has established a public docket for this ICR under Docket ID No. OW-2003-0073, which is available for public viewing at the Water Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Water Docket is (202) 566-2426. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to www.epa.gov/edocket.

Title: National Pollutant Discharge Elimination System (NPDES) Compliance Assessment/Certification Information (Renewal).

Abstract: This ICR updates the burden and costs associated with the data requirements necessary for a permitting authority to determine whether an existing NPDES or sewage sludge permittee is in compliance with the conditions of its permit for the discharge of pollutants to waters of the United States or for the use or disposal of sewage sludge. Most compliance assessment data is generated by permittees and submitted to the appropriate permitting authority. The permitting authority uses the information to determine compliance with permit conditions and if any noncompliance poses a threat to human health or the environment. If noncompliance is detected, the permitting authority will take the appropriate enforcement action based on the frequency and the degree of seriousness of the violation.

This ICR calculates the burden associated with compliance assessment information (other than discharge monitoring reports) required by parts 122 and 501 and certification or alternative requirements contained in the effluent limitations guidelines and standards regulations for various point source categories. This ICR adds burden and costs previously collected under OMB ICR No. 2040-0230, Best Management Practices, Alternatives, Effluent Limitations Guidelines and Standards, Oil and Gas Extraction Point Source Category (40 CFR part 435). These requirements include routine submittals, such as annual certifications and reports submitted when a compliance schedule milestone is reached; non-routine submittals, such as an unanticipated bypass; and certifications for exemptions of monitoring requirements for certain industrial categories.

Where information submitted contains trade secrets or similar confidential business information, the respondent has the authority to request that this information be treated as confidential business information. All data so designated will be handled pursuant to 40 CFR part 2. Pursuant to section 308(b) of the Clean Water Act, effluent data may not be treated as confidential.

An agency may not conduct or sponsor, and a person is not required to respond to, a collection of information unless it displays a currently valid OMB control number. The OMB control numbers for EPA's regulations in 40 CFR are listed in 40 CFR part 9 and are identified on the form and/or instrument, if applicable.

Burden Statement: The annual public reporting and recordkeeping burden for this collection of information is estimated to average 4 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: State and local governments, tribes, private industry, and public and private entities covered under an NPDES discharge permit (or required to oversee NPDES permit implementation).

Estimated Number of Respondents: 416,964.

Frequency of Response: Varies.

Estimated Total Annual Hour Burden: 1,809,580.

Estimated Total Annual Cost: $69,446,000, includes $0 annualized capital, $0 annual O&M and $69,446,000 annual labor costs.

Changes in the Estimates: There is an increase of 434,168 hours in the total estimated burden currently identified in the OMB Inventory of Approved ICR Burdens. This increase in burden is due to the incorporation of ICR 2040-0230 into ICR 2040-0110, and is the result of an increase in the universe of permittees covered by storm water general permits and their applicable burden for recordkeeping and reporting compliance activities. Other aspects of this ICR are essentially unchanged (or changed minimally) from the previous ICR.

Dated: May 12, 2004.
Oscar Morales,
Director, Collection Strategies Division.

[FR Doc. 04-11670 Filed 5-21-04; 8:45 am]

BILLING CODE 6560-50-P